DEPARTMENT OF LABOR

Employment and Training Administration

[TA-W-51,458]

Silicon Graphics, Inc., Worldwide Manufacturing Organization Including Leased Workers of Kelly Services, Chippewa Falls, Wisconsin; Notice of Negative Determination on Reconsideration

On November 3, 2003, the Department issued an Affirmative Determination Regarding Application for Reconsideration for the workers and former workers of the subject firm. The notice will soon be published in the Federal Register.

The Department initially denied TAA to workers of Silicon Graphics, Inc., Worldwide Manufacturing Organization (WMO), Chippewa Falls, Wisconsin because the “contributed importantly” and shift of production group eligibility requirements of section 222(3) of the Trade Act of 1974, as amended, were not met. The investigation revealed that neither the subject company nor its customers increased import purchases of computer products during the relevant period and that there was no shift of production.

In the request for reconsideration, the petitioner alleged that both the subject company and one of its major customers increased import purchases during the relevant time period.

During the reconsideration investigation, the Department requested additional information from the subject company regarding the allegations.

The investigation revealed that the subject company did not increase imports during the relevant time period and that sales to the identified customer constituted only a negligible amount of total subject company sales during the relevant time period.

Conclusion

After reconsideration, I affirm the original notice of negative determination of eligibility to apply for worker adjustment assistance for workers and former workers of Silicon Graphics, Inc., Worldwide Manufacturing Organization (WMO), Chippewa Falls, Wisconsin and temporary workers of Kelly Services working at the subject facility.

Signed in Washington, DC, this 12th day of December, 2003.
Elliott S. Kusner,
Certifying Officer, Division of Trade Adjustment Assistance.

[FR Doc. 04-309 Filed 1-6-04; 8:45 am]

BILLING CODE 4510-30-P